COMMITTEE FOR PURCHASE FROM PEOPLE WHO ARE BLIND OR SEVERELY DISABLED

Procurement List Proposed Addition and Deletions

AGENCY: Committee for Purchase From People Who Are Blind or Severely Disabled.

ACTION: Proposed Addition to and Deletions from the Procurement List.

SUMMARY: The Committee is proposing to add a service to the Procurement List that will be provided by nonprofit agency employing persons who are blind or have other severe disabilities and, deletes products and services previously furnished by such agencies.

DATES: Comments must be received on or before: 5/8/2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to provide the service listed below from the nonprofit agency employing persons who are blind or have other severe disabilities.

The following service is proposed for addition to the Procurement List for provision by the nonprofit agency listed:

Service

Service Type: Administrative and Human Resource Contact Center Service

Mandatory for: U.S. Air Force, Total Force Service Center—San Antonio; Air Force Personnel Center, Joint Base San Antonio, Randolph AFB, TX

Mandatory Source(s) of Supply: Goodwill Industries of San Antonio Contract Services, San Antonio, TX

Contracting Activity: Air Force Installation Contracting Agency, 338 Specialized Contracting Squadron, Wright Patterson Air Force Base, OH

Deletions

The following products and services are proposed for deletion from the Procurement List:

Products

NSN(s)—Product Name(s)

MR 10654—Bottle, Single Wall

MR 10656—Saver, Sandwich

MR 10666—Thermos, 25 oz., Licensed

MR 10667—Tumbler, Drinking, 16 oz., Licensed

MR 10669—Kit, Party, New Year's

Mandatory Source(s) of Supply: Winston-Salem Industries for the Blind, Inc., Winston-Salem, NC

Contracting Activity: Defense Commissary Agency

NSN(s)—Product Name(s)

6545-01-533-7042—Quik Clot Module

Mandatory Source(s) of Supply: Chautauqua County Chapter, NYSARC, Jamestown, NY

Contracting Activity: Defense Logistics Agency Troop Support

Services

Service Type: Janitorial/Custodial Service

Mandatory for: Fairchild Air Force Base: Air Recovery and Rescue Squadron (Bldg. 2036), SAC/MET Office (Building 2001B), Fairchild AFB, WA

Mandatory Source(s) of Supply: Skils'kin, Spokane, WA

Contracting Activity: Dept of the Air Force, FA7014 AFDW PK, Andrews AFB, MD

Service Type: Operation of Postal Service Center Service

Mandatory for: Fairchild Air Force Base, Fairchild AFB, WA

Mandatory Source(s) of Supply: Skils'kin, Spokane, WA

Contracting Activity: Dept of the Air Force, FA4620 92 CONS LGC, Fairchild AFB, WA

Service Type: Library Service

Mandatory for: Davis-Monthan Air Force Base, Davis-Monthan AFB, AZ

Mandatory Source(s) of Supply: J.P. Industries, Inc., Tucson, AZ

Contracting Activity: Dept of the Air Force, FA4877 355 CONS LGC, Davis-Monthan AFB, AZ

Barry S. Lineback,
Director, Business Operations.

[FR Doc. 2016-08102 Filed 4-7-16; 8:45 am]

BILLING CODE 6353-01-P